POSTAL SERVICE

Product Change—First-Class Package Service Negotiated Service Agreement

AGENCY: Postal Service®.

ACTION: Notice.

SUMMARY: The Postal Service gives notice of filing a request with the Postal Regulatory Commission to add a domestic shipping services contract to the list of Negotiated Service Agreements in the Mail Classification Schedule's Competitive Products List.

DATES: Date of required notice: May 24, 2018.

FOR FURTHER INFORMATION CONTACT: Maria W. Votsch, 202-268-6525.

SUPPLEMENTARY INFORMATION: The United States Postal Service hereby gives notice that, pursuant to 39 U.S.C. 3642 and 3632(b)(3), on May 21, 2018, it filed with the Postal Regulatory Commission a USPS Request to Add First-Class Package Service Contract 93 to Competitive Product List. Documents are available at www.prc.gov, Docket Nos. MC2018-155, CP2018-224.

Maria W. Votsch,
Attorney, Corporate and Postal Business Law.

[FR Doc. 2018-11119 Filed 5-23-18; 8:45 am]

BILLING CODE 7710-12-P